DEPARTMENT OF HEALTH AND HUMAN SERVICES

Transfer of ARPA-H to NIH

Notice is hereby given that I have transferred the Advanced Research Projects Agency for Health (ARPA-H) to the National Institutes of Health (NIH) as authorized by title II of division H of the Consolidated Appropriations Act, 2022, Public Law 117-103, and pursuant to the notification to the Committees on Appropriations of the House of Representatives and the Senate on March 30, 2022.

The transfer is subject to the following condition:

• The Director, ARPA-H will report directly to the Secretary Delegation of Authority.

I have delegated to the Director, NIH, the following authorities vested in me as the Secretary of Health and Human Services, for the purpose of carrying out section 301 and title IV of the PHS Act with respect to advanced research projects for health to:

• Administer the functions, personnel, missions, activities, authorities, and funds of ARPA-H

• Support activities with funds provided under the heading ‘Advanced Research Projects Agency for Health' under title II of division H of the Consolidated Appropriations Act, 2022, Public Law 117-103, that shall not be subject to the requirements of section 406(a)(3)(A)(ii) or 492 of the PHS Act.

• Make or rescind appointments of scientific, medical, and professional personnel without regard to any provision in title 5, United States Code, governing appointments under the civil service laws.

The delegation is subject to the following conditions:

• The authority delegated to the Director, NIH, herein shall transfer to the Director, ARPA-H, upon appointment of the Director, ARPA-H, or naming of an acting Director, ARPA-H.

• NIH may not subject ARPA-H to NIH policies.

I have affirmed and ratified any actions taken by the Director, NIH, Director, ARPA-H, or Acting Director, ARPA-H, which involved the exercise of the authorities delegated herein prior to the effective date of the delegation.

This delegation of authority does not impact any other delegations of authority within NIH or in any other U.S. Department of Health and Human Services Operating Division or Staff Division. The transfer and delegation became effective upon the date of signature.

Dated: April 15, 2022.
Xavier Becerra,
Secretary, Department of Health and Human Services.

[FR Doc. 2022-08456 Filed 4-19-22; 8:45 am]

BILLING CODE 4150-01-P